DEPARTMENT OF THE INTERIOR

National Park Service

Notice of Request for Extension of a Currently Approved Information Collection

AGENCY: National Park Service, Interior.

ACTION: Notice of request for extension of a currently approved information collection

SUMMARY: In accordance with the Paperwork Reduction Act of 1995, this notice announces the National Park Service's intention to request an extension for a currently approved information collection in support of its Concession Management Program.

DATES: Comments in this notice must be received no later than January 6, 2003.

ADDRESSES: Office of Information and Regulatory Affairs of OMB, Attention: Desk Officer for the Interior Department, Office of Management and Budget, 725 17th Street, NW., Washington, DC 20503. Please also send a copy of your comments to Cynthia L. Orlando, Concession Program Manager, National Park Service, Department of the Interior, 1849 C Street, NW (2410), Washington, DC 20240.

SUPPLEMENTARY INFORMATION: Title: Proposed Sale of Concession Operations.

OMB Number: 1024-0126.

Expiration Date of Approval: November 30, 2002.

Type of Request: Extension of a currently approved information collection.

Abstract: The National Park Service (NPS) authorizes private businesses known as concessioners to provide necessary and appropriate visitor facilities and services in areas of the National Park System. Concession authorizations may be assigned, sold, transferred or encumbered by the concessioner subject to prior written approval of the NPS. The NPS requires that certain information be submitted for review prior to the consummation of any sale, transfer, assignment, or encumbrance.

16 U.S.C. 5957 provides that no concessions contract or leasehold surrender interest may be transferred, assigned or sold, or otherwise conveyed or pledged by a concessioner without prior written notification to, and approval by, the Secretary. Regulations at 36 CFR part 51, subpart J, require that certain information be submitted for review by the NPS prior to the consummation of any sale, transfer, assignment or encumbrance.

The information requested is used to determine whether or not the proposed transaction will result in an adverse impact on the protection, conservation, or preservation of the resources of the unit of the National Park System, decreased services to the public, the lack of a reasonable opportunity for profit over the remaining term of the authorization, or rates in excess of existing approved rates to the public. In addition, pursuant to the regulations at 36 CFR part 51, the value of rights for intangible assets such as the concession contract, right of preference in renewal, user days, or low fees, belong to the Government.

If any portion of the purchase price is attributable either directly or indirectly to such assets, the transaction may not be approved. The amount and type of information to be submitted varies with the type and complexity of the proposed transaction. Without such information, the NPS would be unable to determine whether approval of the proposed transaction would be adequate.

Estimate of Burden: Approximately 80 hours per response.

Estimated Number of Respondents: Approximately 20.

Estimated number of Reponses per Respondent: One.

Estimated Total Annual Burden on Respondents: 1600 Hours.

A list of information required to be submitted with a request for sale, assignment, transfer or encumbrance of a concession authorization is set forth at 36 CFR part 51, subpart J.

Send comments regarding the accuracy of the burden estimate, ways to minimize the burden, including the use of automated collection techniques or other forms of information technology, or any other aspect of this collection to the Office of Management and Budget at the address in the ADDRESSES section. For further information about this information collection request, you may contact Erica Smith-Chavis at 202/513-7144, or by written request (see ADDRESSES). All comments will also become a matter of public record.

Dated: November 25, 2002.
Cynthia L. Orlando,
Concession Program Manager.

[FR Doc. 02-30922 Filed 12-5-02; 8:45 am]

BILLING CODE 4310-70-P